DEPARTMENT OF EDUCATION

Common Instructions for Applicants to Department of Education Discretionary Grant Programs

AGENCY: Office for Planning, Evaluation and Policy Development, Department of Education.

ACTION: Notice; revised common instructions.

SUMMARY: On February 12, 2018, the Department of Education (Department) published a set of common instructions for applicants seeking funds under a Department discretionary grant competition as part of a broader effort to reduce barriers for applicants. These common instructions are referenced in individual competition notices inviting applications (NIAs). In this notice, we are publishing a revised version of the common instructions that supersedes the version published on February 12, 2018.

FOR FURTHER INFORMATION CONTACT: Ronald B. Petracca, U.S. Department of Education, 400 Maryland Avenue SW, Room 6E306, Washington, DC 20202. Telephone: (202) 401-6008. Email: Ronald.Petracca@ed.gov.

If you use a telecommunications device for the deaf (TDD) or a text telephone (TTY), call the Federal Relay Service (FRS), toll-free, at 1-800-877-8339.

SUPPLEMENTARY INFORMATION:

Background: This document provides applicants with a centralized and up-to-date set of instructions for applying to the Department's discretionary grant programs. Future NIAs will reference this document in lieu of providing this series of instructions within each NIA. Rarely, exceptions will need to be made to these instructions and will be noted in an individual competition NIA.

Revised Common Instructions: The Department is making several changes to the common instructions for applicants provided in the notice published in the Federal Register on February 12, 2018 (83 FR 6003). First, in section four, Data Universal Numbering System Number, Taxpayer Identification Number, and System for Award Management, we are adding a sentence above the Note that clarifies that applicants who are unable to submit an application via Grants.gov by the application deadline, because their System for Award Management (SAM) registration is not active, will not be considered for funding.

Second, in section 5(a), under Other Submission Requirements—Electronic Submission of Applicants and—Application Deadline Data Extension in Case of Technical Issues with the Grants.gov System, we are changing, in three places, the time of the application deadline from 4:30:00 p.m., Eastern Time, to 11:59:59 p.m., Eastern Time. We are making these changes so that applicants not located in the Eastern Time will have a full business day to submit their applications before the deadline passes. We are also adding a sentence notifying applicants that assistance from Principal Office staff is available until 5:00 p.m. Eastern Time on the application deadline date.

Lastly, we are revising the instructions for submitting an application electronically, under section 5, Other Submission Requirements, so that applications can be submitted using Microsoft Word. We are making this change to provide greater flexibility for applicants to submit an acceptable application for review; however, we recommend that applicants submit all documents as read-only flattened PDFs.

The revised common instructions are set forth as follows:

Common Set of Instructions for Applicants: Application and Submission Information.

1. Address to Request Application Package: You can obtain an application package from the Department's website or Grants.gov.

To obtain a copy via the Department's website, use the following address: www.ed.gov/fund/grant/apply/grantapps/index.html.

2. Content and Form of Application Submission: Requirements concerning the content and form of an application, together with the forms you must submit, are in the application package for the program.

3. Submission Dates and Times: Submit applications for grants under the program electronically using Grants.gov. For information (including dates and times) about how to submit your application electronically, please refer to Other Submission Requirements in section 5 of these instructions.

We do not consider an application that does not comply with the deadline requirements.

Individuals with disabilities who need an accommodation or auxiliary aid in connection with the application process should contact the person listed in the FOR FURTHER INFORMATION CONTACT section in the competition NIA. If the Department provides an accommodation or auxiliary aid to an individual with a disability in connection with the application process, the individual's application remains subject to all other requirements and limitations in the competition NIA.

4. Data Universal Numbering System Number, Taxpayer Identification Number, and System for Award Management: To do business with the Department, and to submit your application electronically using Grants.gov, you must—

a. Have a Data Universal Numbering System (DUNS) number and a Taxpayer Identification Number (TIN);

b. Register both your DUNS number and TIN with the System for Award Management (SAM.gov), the Government's primary registrant database;

c. Provide your DUNS number and TIN on your application; and

d. Maintain an active SAM registration with current information while your application is under review by the Department and, if you are awarded a grant, during the project period.

You can obtain a DUNS number from Dun and Bradstreet at the following website: http://fedgov.dnb.com/webform. A DUNS number can be created within one to two business days.

If you are a corporate entity, agency, institution, or organization, you can obtain a TIN from the Internal Revenue Service (IRS). If you are an individual, you can obtain a TIN from the IRS or the Social Security Administration. If you need a new TIN, please allow two to five weeks for your TIN to become active.

The SAM registration process can take approximately seven business days, but may take upwards of several weeks, depending on the completeness and accuracy of the data you enter into the SAM.gov database. Thus, if you think you might want to apply for Federal financial assistance under a program administered by the Department, please allow sufficient time to obtain and register your DUNS number and TIN. We recommend that you register early. If you are unable to submit an application on Grants.gov by the application deadline because you do not have an active SAM registration, you will not be considered for funding.

Note: Once your SAM.gov registration is active, it may be 24 to 48 hours before you can access the information in, and submit an application through, Grants.gov.

If you are currently registered with SAM.gov, you may not need to make any changes. However, please make certain that the TIN associated with your DUNS number is correct. Note: You must update your SAM registration annually. This may take three or more business days.

Information about SAM is available at www.SAM.gov. To further assist you with obtaining and registering your DUNS number and TIN in SAM.gov or updating your existing SAM account, we have prepared a SAM.gov Tip Sheet, which you can find at: http://www2.ed.gov/fund/grant/apply/sam-faqs.html.

In addition, in order to submit your application via Grants.gov, you must (1) register as an applicant using your DUNS number and (2) be designated by your organization's E-Biz Point of Contact as an Authorized Organization Representative (AOR). Details on these steps are outlined at the following Grants.gov web page: https://www.grants.gov/web/grants/register.html.

5. Other Submission Requirements:

a. Electronic Submission of Applications.

We are participating as a partner in the Government-wide Grants.gov site. Submit applications electronically using Grants.gov and do not email them unless explicitly allowed in a competition NIA.

A Grants.gov applicant must apply online using Workspace, a shared environment where members of a grant team may simultaneously access and edit different web forms within an application. An applicant can create an individual Workspace for each application and establish for that application a collaborative application package that allows more than one person in the applicant's organization to work concurrently on an application. The Grants.gov system also enables the applicant to reuse forms from previous submissions, check them in and out to complete them, and submit the application package. For access to further instructions on how to apply using Grants.gov, refer to: www.grants.gov/web/grants/applicants/apply-for-grants.html.

You may access the electronic grant applications at www.Grants.gov. You must search for the downloadable application package for this competition by the CFDA number. Do not include the CFDA number's alpha suffix in your search (e.g., search for 84.184, not 84.184D).

Please note the following:

• Applicants needing assistance with Grants.gov may contact the Grants.gov Support Center either by calling 1-800-518-4726 or by sending an email to support@grants.gov. The Grants.gov Support Center is available 24 hours a day, seven days a week, except for Federal holidays. Applicants needing assistance from Principal Office staff with their applications should contact the person listed in the FOR FURTHER INFORMATION CONTACT section in the competition NIA during normal business hours and no later than 5:00 p.m., Eastern Time, on the application deadline date.

• The amount of time it can take to upload an application will vary depending on a variety of factors, including the size of the application and the speed of your internet connection. Therefore, we recommend that you leave yourself plenty of time to complete your submission.

• Applications received by Grants.gov are date- and time-stamped upon submission. Your application must be fully uploaded and submitted and must be date- and time-stamped by the Grants.gov system no later than 11:59:59 p.m., Eastern Time, on the application deadline date. Except as otherwise noted in this section, we will not accept your application if it is received—that is, date- and time-stamped by the Grants.gov system—after 11:59:59 p.m., Eastern Time, on the application deadline date. We do not consider an application that does not comply with the deadline requirements. When we retrieve your application from Grants.gov, we will notify you if we are rejecting your application because it was late. Receipt of a date- and time-stamp does not mean that your application meets program eligibility requirements described in the application package.

• You should review and follow the Education Submission Procedures for submitting an application through Grants.gov that are included in the application package for the program to ensure that you submit your application on time. You can also find the Education Submission Procedures pertaining to Grants.gov under News and Events on the Department's G5 system home page at www.G5.gov. In addition, for specific guidance and procedures for submitting an application through Grants.gov, please refer to the Grants.gov website at: www.grants.gov/web/grants/applicants/apply-for-grants.html.

• When you submit your application electronically, all documents must be submitted in this manner, including all information you typically provide on the following forms: The Application for Federal Assistance (SF 424), the Department of Education Supplemental Information for SF 424, Budget Information—Non-Construction Programs (ED 524), and all necessary assurances and certifications.

• When you submit your application electronically, you must upload any narrative sections and all other attachments to your application as files in either Portable Document Format (PDF) or Microsoft Word. Although applicants have the option of uploading any narrative sections and all other attachments to their application in either PDF or Microsoft Word, we recommend applicants submit all documents as read-only flattened PDFs, meaning any fillable PDF files must be saved and submitted as non-fillable PDF files and not as interactive or fillable PDF files, to better ensure applications are processed in a more timely, accurate, and efficient manner. If you choose to submit your application in Microsoft Word, you may do so using any version of Microsoft Word (i.e., a document ending in a .doc or .docx extension). If you upload a file type other than PDF or Microsoft Word or if you submit a password-protected file, we will be unable to review that material. Please note that this will likely result in your application not being considered for funding. The Department will not convert material from other formats to PDF or Microsoft Word.

• After you electronically submit your application, you will receive from Grants.gov an automatic notification of receipt that contains a Grants.gov tracking number. Grants.gov also will notify you automatically by email if your application met all of the Grants.gov validation requirements or if there were any errors (such as submission of your application by someone other than a registered AOR, issues with your DUNS number, or inclusion of an attachment with a file name that contains special characters). You will be given an opportunity to correct any errors and resubmit, but you must still meet the deadline for submission of your application.

Once your application is successfully validated by Grants.gov, the Department will retrieve your application from Grants.gov and send you an email with a unique PR/Award number for your application.

Email confirmations and receipts from Grants.gov do not indicate receipt by the Department, nor do they mean that your application is complete or has met all application requirements. While your application may have been successfully validated by Grants.gov, it also must be reviewed in accordance with the Department's application requirements as specified in the competition NIA and in these application instructions. It is your responsibility to ensure that your submitted application has met all of the Department's requirements. Additionally, we may request that you provide us original signatures on forms at a later date.

Application Deadline Date Extension in Case of Technical Issues with the Grants.gov System: If you experience problems submitting your application through Grants.gov, please contact the Grants.gov Support Desk immediately, toll-free, at 1-800-518-4726. The Grants.gov Support Center will provide you with a Support Desk Case Number documenting your communication. You must retain your Support Desk Case Number for future reference as proof of your communication with the Support Center. Please subsequently contact the person listed in the FOR FURTHER INFORMATION CONTACT section in the competition NIA and provide an explanation of the technical problem you experienced with Grants.gov, along with the Grants.gov Support Desk Case Number.

If you are prevented from electronically submitting your application on the application deadline date because of technical problems within the Grants.gov system, we will grant you an extension until 11:59:59 p.m., Eastern Time, the following business day to enable you to transmit your application electronically, provided we can verify the technical issues affected your ability to submit your application on time via your Grants.gov Support Desk Case Number.

Note: The extensions to which we refer in this section apply only to technical problems with the Grants.gov system. We will not grant you an extension if you failed to fully register in order to submit your application to Grants.gov (including with the required DUNS number and TIN currently registered in SAM) before the application deadline date and time or if the technical problem you experienced is unrelated to the Grants.gov system.

b. Submission of Paper Applications.

We discourage paper applications, but if electronic submission is not possible (e.g., you do not have access to the internet), you must provide a written statement that you intend to submit a paper application. Send this written statement no later than two weeks before the application deadline date (14 calendar days or, if the 14th calendar day before the application deadline date falls on a Federal holiday, the next business day following the Federal holiday).

If you mail your written statement to the Department, it must be postmarked no later than two weeks before the application deadline date. Please send this statement to the person listed in the FOR FURTHER INFORMATION CONTACT section of the competition NIA.

If you submit a paper application, you must mail the original and two copies of your application, on or before the application deadline date, to the Department at the following address: U.S. Department of Education, Application Control Center, Attention: (CFDA Number), LBJ Basement Level 1, 400 Maryland Avenue SW, Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

Note for Mail Delivery of Paper Applications: If you mail your application to the Department—

(1) You must indicate on the envelope and in Item 11 of the SF 424 the CFDA number, including suffix letter, if any, of the competition under which you are submitting your application; and

(2) The Application Control Center will notify you of the Department's receipt of your grant application. If you do not receive this notification within 15 business days from the application deadline date, you should call the Application Control Center at (202) 245-6288.

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

James C. Blew,
Assistant Secretary for Planning, Evaluation and Policy Development.

[FR Doc. 2019-02206 Filed 2-12-19; 8:45 am]

BILLING CODE 4000-01-P